SECURITIES AND EXCHANGE COMMISSION

[Release No. 34-49105; File No. SR-BSE-2003-08]

Self-Regulatory Organizations; Boston Stock Exchange, Inc.; Order Granting Approval of Proposed Rule Change and Amendment No. 1 Thereto Relating to the Exchange's Instant Liquidity Access Service for Certain Limit Orders

January 20, 2004.

On July 14, 2003, the Boston Stock Exchange, Inc. (“BSE” or “Exchange”) filed with the Securities and Exchange Commission (“Commission”), pursuant to section 19(b)(1) of the Securities Exchange Act of 1934 (“Act”) ¹ and Rule 19b-4 thereunder,² a proposed rule change to add provisions to its rules governing a new service that will provide for the instant execution of certain limit orders of a specified size. On September 8, 2003, the Exchange submitted Amendment No. 1 to the proposed rule change. ³

¹ 15 U.S.C. 78s(b)(1).

² 17 CFR 240.19b-4.

³ See letter from John Boese, Vice President, Legal and Compliance, BSE, to Nancy Sanow, Assistant Director, Division of Market Regulation, Commission, dated September 5, 2003.

The proposed rule change was published for comment in the Federal Register on October 15, 2003.⁴ The Commission received no comments on the proposal.

⁴ See Securities Exchange Act Release No. 48596 (October 7, 2003), 68 FR 58435 (October 15, 2003).

The Commission finds that the proposed rule change, as amended, is consistent with the requirements of the Act and the rules and regulations thereunder applicable to a national securities exchange ⁵ and, in particular, the requirements of section 6 of the Act ⁶ and the rules and regulations thereunder. In particular, the Commission believes that the proposed rule change is consistent with section 6(b)(5) ⁷ of the Act because it should enable the Exchange to accommodate customers that seek immediate execution or cancel orders.

⁵ In approving this proposed rule change, the Commission has considered the proposed rule's impact on efficiency, competition, and capital formation. 15 U.S.C. 78c(f).

⁶ 15 U.S.C. 78f.

⁷ 15 U.S.C. 78f(b)(5).

It is therefore ORDERED, pursuant to section 19(b)(2) of the Act,⁸ that the proposed rule change (SR-BSE-2003-08), as amended, be, and it hereby is, approved.

⁸ 15 U.S.C. 78s(b)(2).

For the Commission, by the Division of Market Regulation, pursuant to delegated authority.⁹

⁹ 17 CFR 200.30-3(a)(12).

Margaret H. McFarland,
Deputy Secretary.

[FR Doc. 04-1662 Filed 1-26-04; 8:45 am]

BILLING CODE 8010-01-P